DEPARTMENT OF JUSTICE

National Institute of Corrections

Solicitation for a Cooperative Agreement—“Operational Practices for Women Offenders”

AGENCY: National Institute of Corrections, Department of Justice.

ACTION: Solicitation for a Cooperative Agreement.

SUMMARY: The Department of Justice (DOJ), National Institute of Corrections (NIC), announces the availability of funds in FY 2003 for a cooperative agreement to fund the project “Operational Practices for Women Offenders.” NIC will award a two year cooperative agreement to review the current training program, develop a curriculum, prepare an accompanying participant and trainer manual and attend the May 2003 program for insight into the current components. In addition, the award recipient will be responsible for the final (NIC approved) curriculum, training of faculty for the program and the delivery of the program in FY 2004, with the participant and trainer manuals in place. A total of $120,00 is reserved for the project during fiscal years 2003 and 2004. The 2003 allocation is $20,000 and the 2004 allocation is $100,000.

A cooperative agreement is a form of assistance relationship where the National Institute of Corrections is substantially involved during the performance of the award. The recipient of the award will be selected through the competitive solicitation process.

DATES: Applications must be received by 4 p.m. Eastern Standard Time on March 27, 2003.

ADDRESSES: Mailed applications must be sent to: Director, National Institute of Corrections, 320 First Street, NW., Room 5007, Washington, DC 20534. Applicants are encouraged to use Federal Express, UPS, or similar service to ensure delivery by the due date as mail at NIC is still being delayed due to recent events.

Hands delivered applicants should be brought to 500 First Street, NW., Washington, DC 20534. At the front desk, call (202) 307-3106, extension 0 for pickup. Faxed or emailed applications will not be accepted.

FOR FURTHER INFORMATION CONTACT: A copy of this announcement and the required application forms can be downloaded from the NIC web page at www.nicic.org (Click on “cooperative agreements.”) Hard copies of the announcement can be obtained by calling Rita Rippetoe at 1-800-995-6423 extension 44222 or e-mail rippetoe@bop.gov.

All technical or programmatic questions concerning this announcement should be directed to Evelyn Bush, Correctional Program Specialist, National Institute of Corrections. She can be reached by calling 1-800-995-6423 extension 40376 or by e-mail at elbush@bop.gov. Supplemental information regarding the program can be received by mail or e-mail. Please contact Sharon Floyd at 1-800-995-6423 ext 44072.

SUPPLEMENTARY INFORMATION: Background: The National Institute of Corrections, Prisons Division, began its work defining critical issues that impact women offenders in 1996. Based on surveys, workshops and state-driven inquiries for assistance and information, NIC began addressing gender-specific needs and services.

The program goal is to provide assistance to state departments of correction around the specific issues and concerns dealing with women offenders.

The “Operational Practices for Women Offenders” program was developed with the practitioner in mind, to help correctional managers increase their understanding of women offenders and enhance their skills for effectively working with them.

The role of the correctional institution has changed a great deal over the past 200 years. The almshouses and dungeons of the early days gave way to custodial institutions and then to reformatories. Today, correctional facilities are making new strides in providing improved conditions, diversity and quality in programming, and availability of educational, vocational, treatment and medical services.

Both theorists and popular viewpoint have played a role in the structure of corrections for the women offender. The current trend is to dispel traditional stereotypes and myths surrounding the woman offender, to develop a realistic picture of the variety of women in the penal system today, and to address the individual and group needs of these women.

As a number of women entering the Criminal Justice system grew, (at a faster rate than men) practitioners felt the impact based on the growing number of operational issues. These included concerns about searches, contraband, privacy, etc. NIC became involved in responding to these requests for assistance to “do it the right way and the appropriate way.”

Differences in women's pathways into the criminal justice system and women's behavior while in custody have important implications for the practices in women's prisons. There is significant evidence that the response of women to incarceration, treatment, and rehabilitation differs from that of men.

Gender responsiveness has been defined by Bloom and Covington as “creating an environment that reflects an understanding of the reality of women's lives and addresses the issues of women.” As the criminal justice system becomes more responsive to the issues of managing women offenders, it will be more effective in targeting the pathways to offending that propel women into, and return them to, the criminal justice system.

Taken from Gender Responsive Strategies: Research, Practice and Guiding Principles for Women Offenders, NIC 2002)

Purpose: The National Institute of Corrections is seeking applications for a cooperative agreement that will take over management of an existing program, develop and produce a curriculum with a corresponding participant and trainer's manual. In addition, the awardee will deliver subsequent offerings of the 5 day interactive program. The product should be “user-friendly” so that will be effective and useful to state departments of corrections. The pilot program will be modified, if necessary, based on the final program review and evaluation.

Scope of Work: 1. Review the current NIC training program; design a curriculum that incorporates the most up-to-date research on women offenders with the objective to prepare correctional managers to work effectively with women offenders; describe the methodology for identifying any recommended or significant change.

2. Produce a program curriculum, participant manual and trainer's guide that is user-friendly and designed for interactive, adult learning. All overheads slides, presentations and other audio-visual materials, with copyright permission, are to be included.

3. Conduct a program planning session and train staff/trainers for program delivery;

4. “Pilot” “Operational Practices for Women Offenders” staining program in May 2004 to an audience of 25 to 30 correctional practitioners;

5. Develop, disseminate, and compile results of participant program evaluation, with results to the NIC Project Monitor, within 30 days of the May 2004 program completion.

6. Design and pilot test an impact evaluation instrument to be completed by participants 9-12 months after attending the training.

Specific Requirements: 1. Significant changes to the existing curriculum must be justified with research-based documentation.

2. Attendance of at least one primary team member is required for the duration of the May 2003 program. There must be included in the proposal a statement that this primary team member will attend the training program May 19-23, 2003, with the costs reflected in the budget narrative.

3. The applicant must demonstrate that the project team is comprised of persons with expertise in correctional administration/management with women offenders as well as project staff who specifically have experience in correctional management and gender-specific responsive programming.

4. All identified trainers for the training program must have recent (within five years) experience in working with women offenders, as either staff or consultant. This experiences should be clearly identified in the resume or narrative.

5. The person designated as project director is required to be the person who will manage the 5 day on-site program presentation (2004) and who has full decision-making authority to work with the NIC project manager. This person must have sufficient time dedicated to the project to assure availability for collaboration with the NIC project manager.

6. Applicants should identify in the proposal specific strategies for assuring a collaborative effort between their project team and NIC. This will include the planning session, manual materials, and the selection of trainers for the program. The applicant should demonstrate ability to work collaboratively with NIC from previous work, if applicable.

7. The awardee must follow all of NIC's procedures and time frames for the provision of training and this must be stated in the proposal. Dates for the training program will determined by NIC in consultation with the awardee.

8. Location for the training program will be recommended by the awardee but the final decision for a site will remain with NIC.

Application Requirements: Applications must be submitted using OMB Standard Form 424, Federal Assistance, and attachments. (Copies can be downloaded from the NIC web page at www.nicic.org/service/coop/default.htm.) The applications should be concisely written, typed double-spaced and refer to the project by the “NIC Application Number” and Title is this announcement.

Submit an original and two copies. The original should have the applicant's signature in blue ink. A cover letter must identify the responsible audit agency for the applicant's financial accounts.

The narrative portion of this cooperative agreement application should include, at a minimum:

1. A brief paragraph indicating the applicant's understanding of this cooperative agreement;

2. One or more paragraphs detailing the applicants understanding of the historical and current views of working with women offenders, and the response for effectively working with women offenders;

3. A brief paragraph summarizing the project goals and objectives;

4. A clear description of the methodology for project completion and achievement of its goals;

5. A clearly developed Project Plan which demonstrates how and when the various goals and objectives of the project will be achieved through its various activities so as to produce the required results;

6. A chart of measurable project milestones and time lines for the completion of each milestone;

7. A description of the qualifications of the applicant organization and each project staff;

8. A description of the staffing plan for the project, including the role of each project staff, the percentage of the time commitment for each (in days), the relationship among the staff (who reports to whom), and a statement from individual staff that they will be available to work on this project and meet the required level of experience.

9. A budget detailing all costs for the project, costs for trainer services and travel, shows consideration for all contingencies for this project, and notes a commitment to work within the budget proposed. Budget should be divided into object class categories as shown on application Standard Form 424A. A budget narrative must be included which explains how all costs were determined.

Authority: Public Law 93-415.

Funds Available: The award will be limited to a maximum of $120,000 (direct and indirect costs). Participant travel for the program delivery will be paid by NIC and is not included in the funding for this project. Funds may only be used for the activities that are linked to the desired outcome of the project. No funds are transferred to State or local governments. This project will be a collaborative venture with the NIC Prisons Division. NIC retains the right to select the applicants for participation. $20,000 will be allocated for fiscal year 2003, and $100,000 will be allocated for fiscal year 2004.

Antideficiency Act

Nothing contained herein shall be construed to obligate the parties to any expenditure or obligation of funds in excess or in advance of appropriation in accordance with the Antideficiency Act, 31 U.S.C. 1341.

Eligibility Applicants: An eligible applicant is any State or general unit of local government, private agency, educational institution, organization, individuals or team with expertise in the requested areas in order to successfully meet the objectives of this project.

Review Considerations: Applications received under this announcement will be subjected to a 3- to 5-member Peer Review Process.

Number of Awards: One (1).

NIC Application Number: 03P21. This number should appear as a reference line in the cover letter and also in box 11 of Standard Form 424, and on the outside of the envelope in which the application is sent.

Executive Order 12372: This program is not subject to the provisions of Executive Order 12372.

(Catalog of Federal Domestic Assistance Number is: 16.601, Title: Training and Staff Development).
Dated: February 12, 2003.
Morris L. Thigpen,
Director, National Institute of Corrections.

[FR Doc. 03-4022 Filed 2-19-03; 8:45 am]

BILLING CODE 4410-36-M